DEPARTMENT OF COMMERCE

International Trade Administration

[A-570-979]

Crystalline Silicon Photovoltaic Cells, Whether or Not Assembled Into Modules, From the People's Republic of China: Notice of Correction to the Final Results of the 2017-2018 Antidumping Duty Administrative Review

AGENCY: Enforcement and Compliance, International Trade Administration, Department of Commerce.

SUMMARY: The Department of Commerce (Commerce) is correcting its notice of the final results of the sixth administrative review of the antidumping duty (AD) order on crystalline silicon photovoltaic cells, whether or not assembled into modules (solar cells), from the People's Republic of China (China). The period of review (POR) is December 1, 2017 through November 30, 2018.

DATES: Applicable December 9, 2020.

FOR FURTHER INFORMATION CONTACT: Jeff Pedersen, AD/CVD Operations, Office IV, Enforcement & Compliance, International Trade Administration, Department of Commerce, 1401 Constitution Avenue NW, Washington, DC 20230; telephone: (202) 482-2769.

SUPPLEMENTARY INFORMATION:

Background

On October 2, 2020, Commerce published the final results of the 2017-2018 administrative review of the AD order on solar cells from China in the Federal Register.¹ On September 30, 2020, one company claiming that it had no shipments under review contended that in the Final Results Commerce incorrectly identified it as “LERRI Solar Technology Co., Ltd” (LERRI) and that its correct name is “LONGi Solar Technology Co. Ltd. (a.k.a. LERRI Solar Technology Co., Ltd.).” ² On October 6, 2020, Trina ³ and Risen ⁴ submitted timely ministerial error comments.⁵ Specifically, Trina and Risen allege that we applied the incorrect amount in valuing their tempered glass inputs. Risen also alleges that we incorrectly valued its junction box inputs and incorrectly calculated the surrogate financial ratios. On October 12, 2020, SunPower Manufacturing Oregon LLC (the petitioner) submitted a timely rebuttal proposing an alternative to Trina and Risen's suggest valuation of tempered glass, arguing that there was no ministerial error in the valuation of Risen junction boxes, and asserting that labor was omitted from the calculation of surrogate financial ratios.⁶

¹ See Crystalline Silicon Photovoltaic Cells, Whether or Not Assembled Into Modules, from the People's Republic of China: Final Results of Antidumping Duty Administrative Review and Final Determination of No Shipments; 2017-2018, 85 FR 62275 (October 2, 2020) (Final Results), and accompanying Issues and Decision Memorandum (IDM).

² See LERRI's Letter, “LONGi Request for Correction of Clerical Error in the Final Results including Customs Instructions,” dated September 30, 2020.

³ As noted in the Final Results, we are treating Trina Solar Co., Ltd.; Trina Solar (Changzhou) Science and Technology Co., Ltd.; Yancheng Trina Guoneng Photovoltaic Technology Co., Ltd (formerly, Yancheng Trina Solar Energy Technology Co., Ltd.); Changzhou Trina Solar Yabang Energy Co., Ltd.; Turpan Trina Solar Energy Co., Ltd.; Hubei Trina Solar Energy Co., Ltd.; Trina Solar (Hefei) Science and Technology Co., Ltd.; and Changzhou Trina Hezhong Photoelectric Co., Ltd. (collectively Trina) as a single entity.

⁴ As noted in the Final Results, we are treating Risen Energy Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd. Ruichang Branch, and Risen Energy (HongKong) Co., Ltd. (collectively Risen) as a single entity.

Barcode.

⁵ See Risen's Letter, “Risen Ministerial Error Comments,” dated October 6, 2020; see also Trina's Letter, “Ministerial Error Allegation,” dated October 6, 2020.

⁶ See Petitioner's Letter “Response to Ministerial Error Allegations,” dated October 12, 2020.

Scope of the Order

The merchandise covered by the order is crystalline silicon photovoltaic cells, and modules, laminates, and panels, consisting of crystalline silicon photovoltaic cells, whether or not partially or fully assembled into other products, including, but not limited to, modules, laminates, panels and building integrated materials.⁷ Merchandise covered by the order is classifiable under subheading 8501.61.0000, 8507.20.80, 8541.40.6020, 8541.40.6030, and 8501.31.8000 of the Harmonized Tariff Schedule of the United States (HTSUS). Although the HTSUS subheadings are provided for convenience and customs purposes, our written description of the scope of the order is dispositive.

⁷ For a complete description of the scope of the order, see Final Results IDM.

Ministerial Errors

Section 351.224(e) of Commerce's regulations provides that Commerce will analyze any comments received and, if appropriate, correct any ministerial error by amending the final determination or the final results of the review. Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

We analyzed the ministerial error comments and determined, in accordance with section 751(h) of the Act and 19 CFR 351.224(e) and (f), that we made the following ministerial errors: ⁸

⁸ See Memorandum, “Allegations of Ministerial Errors in the Final Results,” dated concurrently with this notice.

(1) In the Final Results, we stated our intention to value tempered glass using Romanian imports of HTS 7007.19.80.⁹ However, we incorrectly applied a value of 2.19 euros per kilogram (kg). Record evidence demonstrates the average unit value of Romanian imports of HTS 7007.19.80 to be 1.87 euros per kg, and we have corrected for this error in our calculation by valuing tempered glass using the 1.87 euros per kg amount.

⁹ See Final Results IDM at Comment 3.

(2) As accurately noted by Risen, we determined in the Final Results that “Malaysian HTS 8544.42.9400 and HTS 8544.60.1100 most closely correspond with the various junction boxes used by Risen.” ¹⁰ However, we stated that data for Malaysian imports of HTS 8544.42.9400 were not on the record and so it was not possible to average the values under Malaysian HTS 8544.42.9400 with the values under Malaysian HTS 8544.60.1100. We thus relied solely on Malaysian imports of HTS 8544.60.1100 to value Risen's junction box consumption. However, data for Malaysian imports of HTS 8544.42.9400 were in fact on the record and so we have corrected this error by relying on an simple average of Malaysian imports of HTS 8544.42.9400 and HTS 8544.60.1100 to value Risen's consumption of junction boxes.

¹⁰ See Final Results IDM at Comment 8.

(3) We failed to identify that the Risen collapsed entity included Risen Energy (Changzhou) Co., Ltd. in the rate section of the Final Results. We have corrected for this by adding Risen Energy (Changzhou) Co., Ltd. to the Risen collapsed entity in the rate section.

(4) We failed to include, in the calculation of Trina's normal value, the cost of the silver paste consumed by Trina. We have corrected for this error by including this cost in the calculation of Trina's normal value.

We found that we did not commit a ministerial error by not including “LONGi Solar Technology Co. Ltd.” in the name that we used to identify LERRI. Because a review was requested and initiated under the name LERRI,¹¹ our no shipments determination applies with respect to that name and we used that name in the Final Results. Thus, our omission of the other company name was correct.

¹¹ See Initiation of Antidumping and Countervailing Duty Administrative Reviews, 84 FR 9297 (March 14, 2019).

We also disagree with Risen's contention that we committed a ministerial error by incorrectly classifying certain expenses in calculating the surrogate financial ratios. Risen's argument is methodological in nature.

Separate Rates

In the Final Results we found that Trina, Risen, and 16 other companies/company groups were eligible for a separate rate. Commerce assigned a dumping margin to the separate rate companies that it did not individually examine, but which demonstrated their eligibility for a separate rate, based on the mandatory respondents' dumping margins.¹² Because Trina's and Risen's margins have changed due to the correction of ministerial errors, we have recalculated the rate assigned to the non-individually examined separate rate companies.¹³

¹² See Final Results, 85 at 62276.

¹³ This rate is based on the rates for the respondents that were selected for individual review, excluding rates that are zero, de minimis, or based entirely on facts available. See section 735(c)(5)(A) of the Act. See Memorandum, “Amended Calculation of the Cash Deposit Rate for Non-Reviewed Companies,” dated concurrently with this notice.

Amended Final Results of Review

As a result of correcting the four ministerial errors discussed above, we determine that the following weighted-average dumping margins exist for the POR:

Producers/exporters | Weighted- average dumping margin (percent)
Trina Solar Co., Ltd./Trina Solar (Changzhou) Science and Technology Co., Ltd./Yancheng Trina Guoneng Photovoltaic Technology Co., Ltd./Changzhou Trina Solar Yabang Energy Co., Ltd./Turpan Trina Solar Energy Co., Ltd./Hubei Trina Solar Energy Co., Ltd./Trina Solar (Hefei) Science and Technology Co., Ltd./Changzhou Trina Hezhong Photoelectric Co., Ltd | 92.52
Risen Energy Co. Ltd./Risen (Wuhai) New Energy Co., Ltd./Zhejiang Twinsel Electronic Technology Co., Ltd./Risen (Luoyang) New Energy Co., Ltd./Jiujiang Shengchao Xinye Technology Co., Ltd./Jiujiang Shengzhao Xinye Trade Co., Ltd./Ruichang Branch, Risen Energy (HongKong) Co., Ltd./Risen Energy (Changzhou) Co., Ltd | 100.79
Review-Specific Average Rate Applicable to the Following Companies:
Anji DaSol Solar Energy Science & Technology Co., Ltd | 95.50
Canadian Solar International Limited/Canadian Solar Manufacturing (Changshu), Inc./Canadian Solar Manufacturing (Luoyang) Inc./CSI Cells Co., Ltd./CSI-GCL Solar Manufacturing (YanCheng) Co., Ltd./CSI Solar Power (China) Inc. (Canadian Solar) | 95.50
JA Solar Technology Yangzhou Co., Ltd | 95.50
Jiawei Solarchina Co., Ltd | 95.50
JingAo Solar Co., Ltd | 95.50
Jinko Solar Co., Ltd. (Jinko) | 95.50
Jinko Solar Import and Export Co., Ltd. (Jinko I&E) | 95.50
Jinko Solar International Limited (Jinko Int'l) | 95.50
Shanghai BYD Co., Ltd | 95.50
Shanghai JA Solar Technology Co., Ltd | 95.50
Shenzhen Portable Electronic Technology Co., Ltd | 95.50
Shenzhen Sungold Solar Co., Ltd | 95.50
Wuxi Tianran Photovoltaic Co., Ltd | 95.50
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd | 95.50
Zhejiang Jinko Solar Co., Ltd | 95.50
Zhejiang Sunflower Light Energy Science & Technology Limited Liability Company | 95.50

Commerce's policy regarding conditional review of the China-wide entity applies to this administrative review.¹⁴ Under this policy, the China-wide entity will not be under review unless a party specifically requests, or Commerce self-initiates, a review of the entity. Because no party requested a review of the China-wide entity, and we did not self-initiate a review of the entity, the entity is not under review, and the entity's dumping margin (i.e., 238.95 percent) is not subject to change as a result of this review.¹⁵

¹⁴ See Antidumping Proceedings: Announcement of Change in Department Practice for Respondent Selection in Antidumping Duty Proceedings and Conditional Review of the Nonmarket Economy Entity in NME Antidumping Duty Proceedings, 78 FR 65963, 65969-70 (November 4, 2013).

¹⁵ See Crystalline Silicon Photovoltaic Cells, Whether or Not Assembled Into Modules, from the People's Republic of China: Final Results of Antidumping Duty Administrative Review and Final Determination of No Shipments; 2015-2016, 83 FR 35616 (July 27, 2018).

Assessment

We will determine, and U.S. Customs and Border Protection (CBP) shall assess, antidumping duties on all appropriate entries covered by this review. We intend to issue assessment instructions to CBP 15 days after the publication date of these amended final results of review. In accordance with 19 CFR 351.212(b)(1), we are calculating importer- or customer-specific assessment rates for the merchandise subject to this review. For any individually examined respondent whose weighted-average dumping margin is above de minimis (i.e., 0.50 percent), we will calculate importer- or customer-specific assessment rates for merchandise subject to this review. Where the respondent reported reliable entered values, we calculated importer- or customer-specific ad valorem rates by aggregating the dumping margins calculated for all U.S. sales to the importer or customer and dividing this amount by the total entered value of the sales to the importer or customer.¹⁶ Where we calculated an importer- or customer-specific weighted-average dumping margin by dividing the total amount of dumping for reviewed sales to the importer or customer by the total sales quantity associated with those transactions, we will direct CBP to assess importer- or customer-specific assessment rates based on the resulting per-unit rates.¹⁷ Where an importer- or customer- specific ad valorem or per-unit rate is greater than de minimis, we will instruct CBP to collect the appropriate duties at the time of liquidation. Where either the respondent's weighted average dumping margin is zero or de minimis, or an importer or customer-specific ad valorem or per-unit rate is zero or de minimis, we will instruct CBP to liquidate appropriate entries without regard to antidumping duties.¹⁸

¹⁶ See 19 CFR 351.212(b)(1).

¹⁷ Id.

¹⁸ See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), we will instruct CBP to liquidate such entries at the China-wide rate. Additionally, if we determine that an exporter under review had no shipments of the subject merchandise, any suspended entries that entered under that exporter's case number will be liquidated at the China-wide rate.¹⁹

¹⁹ See Non-Market Economy Antidumping Proceedings: Assessment of Antidumping Duties, 76 FR 65694 (October 24, 2011), for a full discussion of this practice.

Cash Deposit Requirements

The following cash deposit requirements will be effective upon publication of the amended final results of this administrative review for shipments of the subject merchandise from China entered, or withdrawn from warehouse, for consumption on or after the publication date of this notice in the Federal Register, as provided by section 751(a)(2)(C) of the Act: (1) For the exporters listed in the table in the “Amended Final Results of Review” section above, the cash deposit rate will be the rate listed for each exporter in the table, except if the rate is zero or de minimis (i.e., less than 0.5 percent), then the cash deposit rate will be zero; (2) for previously investigated Chinese and non-Chinese exporters that received a separate rate in a prior segment of this proceeding, the cash deposit rate will continue to be the existing exporter-specific rate; (3) for all Chinese exporters of subject merchandise that have not been found to be entitled to a separate rate, the cash deposit rate will be the rate previously established for the China-wide entity (i.e., 238.95 percent); and (4) for all non-China exporters of subject merchandise which have not received their own rate, the cash deposit rate will be the rate applicable to the Chinese exporter that supplied the non-Chinese exporter. These deposit requirements, when imposed, shall remain in effect until further notice.

Disclosure

We intend to disclose the calculations performed for these amended final results within five days of publication of this notice in the Federal Register in accordance with 19 CFR 351.224(b).

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

These corrections to the final results and notice are issued and published in accordance with sections 751(a) and 777(i) of the Act.

Dated: November 2, 2020.
Jeffrey I. Kessler,
Assistant Secretary for Enforcement and Compliance.

[FR Doc. 2020-27030 Filed 12-8-20; 8:45 am]

BILLING CODE 3510-DS-P